DEPARTMENT OF LABOR

Employment and Training Administration

[TA-W-81,646]

CalAmp Wireless Networks Corporation, Waseca, MN; Notice of Negative Determination Regarding Application for Reconsideration

By application dated September 26, 2012, the State of Minnesota requested administrative reconsideration of the Department's negative determination regarding eligibility for workers and former workers of the subject firm to apply for Trade Adjustment Assistance (TAA).

Following the filing of the request for reconsideration, the Department issued a certification that includes workers of the subject firm (TA-W-80,399A; CalAmp Wireless Networks Corporation, Waseca, Minnesota; expires on December 2, 2013).

Conclusion

Due to the eligibility of workers and former workers of CalAmp Wireless Networks Corporation, Waseca, Minnesota to apply for TAA, the Department determines that an investigation would serve no purpose. Accordingly, the application is denied.

Signed at Washington, DC, this 16th day of November, 2012
Elliott S. Kushner,
Certifying Officer, Office of Trade Adjustment Assistance.

[FR Doc. 2013-00101 Filed 1-7-13; 8:45 am]

BILLING CODE 4510-FN-P